DEPARTMENT OF HOMELAND SECURITY

Federal Emergency Management Agency

[Docket ID FEMA-2018-0002; Internal Agency Docket No. FEMA-B-1862]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arizona: Mohave | City of Lake Havasu City (18-09-0407P) | The Honorable Mark S. Nexsen, Mayor, City of Lake Havasu City, 2330 McCulloch Boulevard North, Lake Havasu City, AZ 86403. | City Hall, 2330 McCulloch Boulevard North, Lake Havasu City, AZ 86403. | https://msc.fema.gov/portal/advanceSearch. | Jan. 21, 2019 | 040116
California:
Napa | City of Napa (16-09-1316P) | The Honorable Jill Techel, Mayor, City of Napa, P.O. Box 660, Napa, CA 94559. | Public Works Department, 1600 1st Street, Napa, CA 94559. | https://msc.fema.gov/portal/advanceSearch. | Jan. 22, 2019 | 060207
Napa | Unincorporated Areas of Napa County (16-09-1316P) | The Honorable Belia Ramos, Chairman, Board of Supervisors, Napa County, 1195 3rd Street, Suite 310, Napa, CA 94559. | Napa County, Engineering Division, Planning, Building & Environmental Services, 1195 3rd Street, 2nd Floor, Napa, CA 94559. | https://msc.fema.gov/portal/advanceSearch. | Jan. 22, 2019 | 060205
San Luis Obispo | City of San Luis Obispo (17-09-2800P) | The Honorable Heidi Harmon, Mayor, City of San Luis Obispo, 990 Palm Street, San Luis Obispo, CA 93401. | Engineering Department, 919 Palm Street, San Luis Obispo, CA 93401. | https://msc.fema.gov/portal/advanceSearch. | Feb. 7, 2019 | 060310
Florida: Duval | City of Jacksonville (17-04-6092P) | The Honorable Lenny Curry, Mayor, City of Jacksonville, 117 West Duval Street Suite 400, Jacksonville, FL 32202. | City Hall, 117 West Duval Street, Jacksonville, FL 32202. | https://msc.fema.gov/portal/advanceSearch. | Jan. 17, 2019 | 120077
Idaho:
Blaine | City of Hailey (18-10-0371P) | The Honorable Fritz Haemmerle, Mayor, City of Hailey, 115 Main Street South Suite H, Hailey, ID 83333. | City Hall, 115 Main Street South, Suite H, Hailey, ID 83333. | https://msc.fema.gov/portal/advanceSearch. | Jan. 10, 2019 | 160022
Blaine | Unincorporated Areas of Blaine County (18-10-0371P) | Ms. Angenie McCleary, Chairman, Blaine County Board of Commissioners 206 1st Avenue South, Suite 300, Hailey, ID 83333. | Blaine County Planning and Zoning, 219 1st Avenue South, Suite 208, Hailey, ID 83333. | https://msc.fema.gov/portal/advanceSearch. | Jan. 10, 2019 | 165167
Indiana: Hamilton | City of Westfield (18-05-3099P) | The Honorable Andy Cook, Mayor, City of Westfield 2728 East 171st Street, Westfield, IN 46074. | Town Hall, 130 Penn Street, Westfield, IN 46074. | https://msc.fema.gov/portal/advanceSearch. | Jan. 17, 2019 | 180083
Kansas: Johnson | City of Overland Park (18-07-1002P) | The Honorable Carl Gerlach, Mayor, City of Overland Park, 8500 Santa Fe Drive, Overland Park, KS 66212. | City Hall, 8500 Santa Fe Drive, Overland Park, KS 66212. | https://msc.fema.gov/portal/advanceSearch. | Jan. 9, 2019 | 200174
Nebraska: Saunders | Unincorporated Areas of Saunders County (18-07-0793P) | Ms. Doris Karloff, Chairperson, Saunders County, P.O. Box 153, Yutan, NE 68073. | Saunders County Courthouse, 433 North Chestnut Street, Wahoo, NE 68066. | https://msc.fema.gov/portal/advanceSearch. | Jan. 4, 2019 | 310195
New York: Albany | City of Albany (17-02-1160P) | The Honorable Kathy M. Sheehan, Mayor, City of Albany, 24 Eagle Street, Room 102, Albany, NY 12207. | City Hall, 24 Eagle Street, Albany, NY 12207. | https://msc.fema.gov/portal/advanceSearch. | Mar. 7, 2019 | 360001
Oregon: Jackson | City of Medford (18-10-0822P) | The Honorable Gary Wheeler, Mayor, City of Medford, 411 West 8th Street, Medford, OR 97501. | Lausmann Annex Building, 200 South Ivy Street, Lausmann Annex, Medford, OR 97501. | https://msc.fema.gov/portal/advanceSearch. | Jan. 23, 2019 | 410096
Pennsylvania: Allegheny | Municipality of Monroeville (17-03-2556P) | The Honorable Nick Gresock, Mayor, Municipality of Monroeville, Municipal Building, 2700 Monroeville Boulevard, Monroeville, PA 15146. | Municipal Engineering Office, 2700 Monroeville Boulevard, Monroeville, PA 15146. | https://msc.fema.gov/portal/advanceSearch. | Jan. 22, 2019 | 420054
Texas:
Dallas | City of Dallas (18-06-0160P) | The Honorable Michael S. Rawlings, Mayor, City of Dallas, 1500 Marilla Street, Suite 5EN, Dallas, TX 75201. | Department of Public Works, 320 East Jefferson Boulevard, Room 321, Dallas, TX 75203. | https://msc.fema.gov/portal/advanceSearch. | Feb. 6, 2019 | 480171
Travis | City of Austin (18-06-2729P) | The Honorable Steve Adler, Mayor, City of Austin, P.O. Box 1088, Austin, TX 78767. | Stormwater Management Division, 505 Barton Springs Road, Suite 908, Austin, TX 78704. | https://msc.fema.gov/portal/advanceSearch. | Jan. 17, 2019 | 480624
Wisconsin: Rusk | Unincorporated Areas of Rusk County (18-05-1900P) | The Honorable David Willingham, County Board Chair, Rusk County Government Center, 311 Miner Avenue East, Ladysmith, WI 54848. | Rusk County Courthouse, 311 Miner Avenue East, Ladysmith, WI 54848. | https://msc.fema.gov/portal/advanceSearch. | Feb. 1, 2019 | 550602

[FR Doc. 2018-24199 Filed 11-2-18; 8:45 am]

BILLING CODE 9110-12-P